DEPARTMENT OF ENERGY

Federal Energy Regulatory Commission

[Docket No. PF16-7-000]

Eastern Shore Natural Gas Company; Notice of Intent To Prepare an Environmental Assessment for the Planned 2017 Expansion Project and Request for Comments on Environmental Issues

The staff of the Federal Energy Regulatory Commission (FERC or Commission) will prepare an environmental assessment (EA) that will discuss the environmental impacts of the 2017 Expansion Project involving construction and operation of facilities by Eastern Shore Natural Gas Company (Eastern Shore) in Lancaster and Chester Counties, Pennsylvania; Cecil County, Maryland; and New Castle, Kent, and Sussex Counties, Delaware. The Commission will use this EA in its decision-making process to determine whether the project is in the public convenience and necessity.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EA. To ensure that your comments are timely and properly recorded, please send your comments so that the Commission receives them in Washington, DC, on or before August 31, 2016.

If you sent comments on this project to the Commission before the opening of this docket on May 17, 2016, you will need to file those comments in Docket No. PF16-7-000 to ensure they are considered as part of this proceeding.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are three methods you can use to submit your comments to the Commission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF16-7-000) with your submission: Kimberly D. Bose, Secretary, Federal Energy Regulatory Commission, 888 First Street NE., Room 1A, Washington, DC 20426.

Summary of the Planned Project

Eastern Shore plans to construct new pipeline and appurtenant aboveground facilities in the states of Pennsylvania, Maryland, and Delaware. The 2017 Expansion Project facilities consist of (1) approximately 30 miles of pipeline looping in Pennsylvania, Maryland and Delaware; (2) upgrades to existing metering facilities; (3) installation of an additional 3,550 horsepower (“hp”) compressor unit at the existing Daleville Compressor Station; and (4) approximately 17 miles of new mainline extension and the addition of two pressure control stations in Sussex County, Delaware.

The 2017 Expansion Project consists of the following components, listed below by geographic area:

Pennsylvania

Lancaster County

Honey Brook Meter and Regulator Station: Replace existing meter runs and pressure/flow control valves at the existing interconnect site with Texas Eastern Transmission, LP (“Texas Eastern”). Modify the existing Honey Brook Meter and Regulator Station and lateral piping to accommodate the installation of upsized mainline taps and valves and the installation of a filter separator, associated piping, and storage tank as well as other ancillary equipment at Eastern Shore's existing interconnect with Texas Eastern. All construction work would be conducted within the fenceline in previously disturbed areas of the existing interconnect site.

Chester County

Parkesburg Loop: Construct approximately 5 miles of 16-inch-diameter pipeline loop ¹ beginning at Eastern Shore's existing Parkesburg Meter and Regulator Station southward to Lime Stone Road (PA-10).

¹ A pipeline loop is a segment of pipe constructed parallel to an existing pipeline to increase capacity.

Jennersville Loop: Construct approximately 7 miles of 24-inch-diameter pipeline loop beginning at Eastern Shore's existing Daleville Compressor Station southward to Hess Mill Road.

Daleville Compressor Station Upgrade: Install a new 3,550 hp gas-fired compressor unit at the existing Daleville Compressor Station.

Maryland

Cecil County

Fair Hill Loop: Construct approximately 6.3 miles of 24-inch-diameter pipeline loop beginning at Eastern Shore's existing block valve on Walker Road in Chester County, Pennsylvania southward to Cecil County, Maryland to tie into the existing Eastern Shore pipeline north of Route 2 near the Maryland/Delaware state line.

Delaware

New Castle County

Middletown Loop: Construct approximately 1 mile of 10-inch-diameter pipeline loop beginning on Peterson Road and extending to a location southeastern of Industrial Road. Construct approximately 0.65 mile of 6-inch-diameter pipeline lateral and meter station from Industrial Road towards Auto Park Drive.

Summit Loop: Construct approximately 0.5 mile of 10-inch-diameter pipeline loop starting along the south side of C&D Canal at Eastern Shore's existing 12- inch aerial crossing southward to tie into the existing Eastern Shore pipeline.

Kent County

Woodside Loop: Construct approximately 5 miles of 16-inch-diameter pipeline loop beginning in Wyoming, Delaware southward to Viola, Delaware.

Sussex County

Hearns Pond Loop: Construct approximately 1.5 miles of 10-inch-diameter pipeline loop along U.S. 13 near Seaford southward to Eastern Shore's existing Seaford Pressure Control Station.

Seaford to Millsboro Segment: Construct approximately 17.0 miles of 10-inch-diameter pipeline extension from Seaford eastward to Eastern Shore's existing Millsboro Meter & Regulator Station near Millsboro.

Laurel Loop: Construct approximately 5.1 miles of 10-inch-diameter pipeline loop along U.S. 13 near Laurel southward to connect with Eastern Shore's existing pipeline.

Pressure Control Stations: Construct two pressure control stations located near the towns of Millsboro and Delmar.

Please see appendix A for a map depicting the general locations of the planned 2017 Expansion Project facilities.

The EA Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. We will consider all filed comments during the preparation of the EA.

² “We,” “us,” and “our” refer to the environmental staff of the Commission's Office of Energy Projects.

In the EA we will discuss impacts that could occur as a result of the construction and operation of the planned project under these general headings:

• Geology and soils;

• land use;

• water resources, fisheries, and wetlands;

• cultural resources;

• vegetation and wildlife;

• air quality and noise;

• endangered and threatened species;

• public safety; and

• cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EA.

The EA will present our independent analysis of the issues. The EA will be available in the public record through eLibrary. Depending on the comments received during the scoping process, we may also publish and distribute the EA to the public for an allotted comment period. We will consider all comments on the EA before we make our recommendations to the Commission. To ensure we have the opportunity to consider and address your comments, please carefully follow the instructions in the Public Participation section, beginning on page 2.

With this notice, we are asking agencies with jurisdiction by law and/or special expertise with respect to the environmental issues related to this project to formally cooperate with us in the preparation of the EA.³ Agencies that would like to request cooperating agency status should follow the instructions for filing comments provided under the Public Participation section of this notice.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Office(s), and to solicit their views and those of other government agencies, interested Indian tribes, and the public on the project's potential effects on historic properties.⁴ We will define the project-specific Area of Potential Effects (APE) in consultation with the SHPO(s) as the project develops. On natural gas facility projects, the APE at a minimum encompasses all areas subject to ground disturbance (examples include construction right-of-way, contractor/pipe storage yards, compressor stations, and access roads). Our EA for this project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

If we publish and distribute the EA, copies of the EA will be sent to the environmental mailing list for public review and comment. If you would prefer to receive a paper copy of the document instead of the CD version or would like to remove your name from the mailing list, please return the attached Information Request (appendix B).

Becoming an Intervenor

Once Eastern Shore files its application with the Commission, you may want to become an “intervenor” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF16-7). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: August 1, 2016.
Nathaniel J. Davis, Sr.,
Deputy Secretary.

[FR Doc. 2016-19082 Filed 8-10-16; 8:45 am]

BILLING CODE 6717-01-P